NUCLEAR REGULATORY COMMISSION

10 CFR Parts 50 and 52

[NRC-2024-0203]

Draft Regulatory Guide: Acceptability of ASME Code, Section III, Division 5, “High Temperature Reactors”

AGENCY: Nuclear Regulatory Commission.

ACTION: Draft guide; reopening of comment period.

SUMMARY: On December 13, 2024, the U.S. Nuclear Regulatory Commission (NRC) solicited comments on draft Regulatory Guide (DG) DG-1436, “Acceptability of ASME Code, Section III, Division 5, `High Temperature Reactors.' ” The public comment period closed on January 27, 2025. The NRC has decided to reopen the public comment period to allow more time for members of the public to develop and submit their comments.

DATES: The comment period for the document published on December 13, 2024 (89 FR 100921) has been reopened. Comments should be submitted no later than February 26, 2025. Comments received after this date will be considered, if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2024-0203. Address questions about Docket IDs in Regulations.gov to Stacy Schumann; telephone: 301-415-0624; email: Stacy.Schumann@nrc.gov. For technical questions, contact the individuals listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Ramón L Gascot, Office of Nuclear Regulatory Research, telephone: 301-415-2004; email: Ramon.Gascot@nrc.gov; Joseph Bass, Office of Nuclear Regulatory Research, telephone: 301-415-0770; email: Joseph.Bass@nrc.gov; and Margaret Audrain, Office of Nuclear Reactor Regulation, telephone: 301-415-2133; email: Margaret.Audrain@nrc.gov. All are staff of the U.S. Nuclear Regulatory Commission, Washington, DC 20555-0001.

SUPPLEMENTARY INFORMATION:

I. Obtaining Information and Submitting Comments

A. Obtaining Information

Please refer to Docket ID NRC-2024-0203 when contacting the NRC about the availability of information for this action. You may obtain publicly available information related to this action by any of the following methods:

• Federal Rulemaking Website: Go to https://www.regulations.gov and search for Docket ID NRC-2024-0203.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The DG, entitled “Acceptability of ASME Code, Section III, Division 5, `High Temperature Reactors,' ” is available in ADAMS under Accession No. ML24275A266.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0203 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 13, 2024, the NRC solicited comments on DG-1436 “Acceptability of ASME Code, Section III, Division 5, `High Temperature Reactors.' ” The public comment period closed on January 27, 2025. The NRC has decided to reopen the public comment period on this document until February 26, 2025, to allow more time for members of the public to develop and submit their comments.

As noted in the Federal Register on December 9, 2022 (87 FR 75671), this document is being published in the “Proposed Rules” section of the Federal Register to comply with publication requirements under chapter I of title 1 of the Code of Federal Regulations.

III. Submitting Suggestions for Improvement of Regulatory Guides

A member of the public may, at any time, submit suggestions to the NRC for improvement of existing Regulatory Guides (RGs) or for the development of new RGs. Suggestions can be submitted on the NRC's public website at https://www.nrc.gov/reading-rm/doc-collections/reg-guides/contactus.html. Suggestions will be considered in future updates and enhancements to the “Regulatory Guide” series.

Dated: January 28, 2025.
For the Nuclear Regulatory Commission.
Meraj Rahimi,
Chief, Regulatory Guide and Programs Management Branch, Division of Engineering, Office of Nuclear Regulatory Research.

[FR Doc. 2025-02036 Filed 1-31-25; 8:45 am]

BILLING CODE 7590-01-P